DEPARTMENT OF COMMERCE

Foreign-Trade Zones Board

[Order No. 1837]

Reorganization of Foreign-Trade Zone 136 Under Alternative Site Framework; Brevard County, FL

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Canaveral Port Authority, grantee of Foreign-Trade Zone 136, submitted an application to the Board (FTZ Docket 48-2010, filed 08/02/10; amended 04/23/12) for authority to reorganize under the ASF with a service area of Brevard County, within and adjacent to the Port Canaveral Customs and Border Protection port of entry, FTZ 136's existing Sites 1-4 and 6 would be categorized as magnet sites, Site 5 would be categorized as a usage-driven site, Site 3—Parcel 2 would be renumbered as Site 6, and Site 3—Parcel 3 would be removed;

Whereas, notice inviting public comment was given in the Federal Register (75 FR 47537, 8/6/10) and the application, as amended, has been processed pursuant to the FTZ Act and the Board's regulations; and,

Whereas, the Board adopts the findings and recommendation of the examiner's report, and finds that the requirements of the FTZ Act and the Board's regulations are satisfied, and that the proposal, as amended, is in the public interest;

Now, therefore, the Board hereby orders:

The amended application to reorganize FTZ 136 under the alternative site framework is approved, subject to the FTZ Act and the Board's regulations, including Section 400.13, to the Board's standard 2,000-acre activation limit for the overall general-purpose zone project, to a five-year ASF sunset provision for magnet sites that would terminate authority for Sites 1, 2, 3, 4 and 6 if not activated by June 30, 2017, and to a three-year ASF sunset provision for usage-driven sites that would terminate authority for Site 5 if no foreign-status merchandise is admitted for a bona fide customs purpose by June 30, 2015.

Signed at Washington, DC, this 18th day of June 2012.
Paul Piquado,
Assistant Secretary of Commerce for Import Administration, Alternate Chairman, Foreign-Trade Zones Board.
ATTEST:
Elizabeth Whiteman,
Acting Executive Secretary.

[FR Doc. 2012-15739 Filed 6-26-12; 8:45 am]

BILLING CODE P